DEPARTMENT OF THE INTERIOR

Fish and Wildlife Service

Notice of Availability of a Safe Harbor Agreement and Receipt of Application for an Enhancement of Survival Permit for Activities on the (Crosswhite) EC Bar Ranch, Apache County, AZ

AGENCY: Fish and Wildlife Service, Interior.

ACTION: Notice of availability and 30-day public comment period.

SUMMARY: James W. Crosswhite (Applicant) has applied to the U.S. Fish and Wildlife Service (Service) for an enhancement of survival permit pursuant to section 10(a)(1)(A) of the Endangered Species Act (Act). The permit application includes a proposed Safe Harbor Agreement between the Applicant and the Service. The Applicant has been assigned permit number TE-075891-0. The proposed Agreement and permit would become effective upon signature of the Agreement and both would remain in effect for 50 years. The requested permit would authorize take of two federally listed species—the endangered southwestern willow flycatcher (Empidonax traillii extimus) and the threatened Little Colorado River spinedace (Lepidomeda vittata). The proposed take could occur as a result of conservation measures implemented on 2.5 miles of Nutrioso Creek in Apache County, Arizona.

Based upon guidance in the Service's June 17, 1999, Final Safe Harbor Policy, if a Safe Harbor Agreement and associated permit are not expected to individually or cumulatively have a significant impact on the quality of the human environment or other natural resources, the Agreement/permit may be categorically excluded from undergoing National Environmental Policy Act (NEPA) review. We have made a preliminary determination that the proposed Agreement and permit application qualify as a “Low Effect” agreement, thus, these actions are eligible for categorical exclusion under NEPA. The “Low Effect” determination is available for review.

DATES: Written comments on the application should be received by October 14, 2003.

ADDRESSES: Persons wishing to review the application may obtain a copy by writing to the Regional Director, U.S. Fish and Wildlife Service, PO Box 1306, Room 4102, Albuquerque, New Mexico 87103. Persons wishing to review the Agreement may obtain a copy by writing to the Field Supervisor, Arizona Ecological Services Field Office, 2321 West Royal Palm Road, Suite 103, Phoenix, Arizona 85021-4951, (602) 242-0210. Documents relating to the application will be available for public inspection by written request, by appointment only, during normal business hours (8 a.m. to 4:30 p.m.) at the U.S. Fish and Wildlife Service, Arizona Ecological Services Field Office, Phoenix, Arizona.

Written data or comments concerning the application and Agreement should be submitted to the Field Supervisor, U.S. Fish and Wildlife Service, Arizona Ecological Services Field Office, 2321 West Royal Palm Road, Suite 103, Phoenix, Arizona 85021-4951. Please refer to permit number TE-075891-0 when submitting comments.

FOR FURTHER INFORMATION CONTACT: Field Supervisor at the U.S. Fish and Wildlife Service, Arizona Ecological Services Field Office, 2321 West Royal Palm Road, Suite 103, Phoenix, Arizona 85021-4951 (602) 242-0210.

SUPPLEMENTARY INFORMATION:

Background

Under a Safe Harbor Agreement, participating property owners voluntarily undertake management activities on their property to enhance, restore, or maintain habitat benefitting species listed under the Act. Safe Harbor Agreements encourage private and other non-Federal property owners to implement conservation efforts for listed species by assuring property owners they will not be subject to increased property use restrictions if their efforts attract listed species to their property or increase the numbers or distribution of listed species already on their property. Application requirements and issuance criteria for enhancement of survival permits through Safe Harbor Agreements are found in 50 CFR 17.22(c).

James W. Crosswhite, owner of the 394-acre EC Bar Ranch, plans to implement conservation measures on 2.5 miles of Nutrioso Creek, located one mile north of Nutrioso, in Apache County, Arizona. The conservation measures will improve riverine, riparian, and upland habitat through establishment of native riparian vegetation. These measures have been shown to be effective in improving water quality, reducing sedimentation, and increasing stream bank stability. The measures that will be implemented include: planting 10,000 to 21,000 riparian trees, harvesting of cuttings of riparian vegetation in two to four years, planting of grasses and shrubs along the flood plain terrace, and repairing old and installing new livestock and elk fence exclosures.

The Agreement is expected to provide a net conservation benefit for two federally listed species; the southwestern willow flycatcher and the Little Colorado spinedace. The baseline condition for the southwestern willow flycatcher is zero. This is because there is currently no habitat for this species in the project area. The Safe Harbor Policy states that the baseline can be described using measurements of available suitable habitat components. Because data from fish surveys can vary due to the monitoring methods used as well as fluctuations in natural conditions, actual population levels will not be used to quantify baseline conditions for the Little Colorado spinedace. Instead, the baseline conditions will use the number of woody riparian trees that are three feet or greater in height that are present either as individuals or as clumps along the 2.5 miles of Nutrioso Creek on the EC Bar Ranch at the signing of this Agreement. Currently there are approximately 100 individual or clumps of woody riparian trees consisting of coyote willow, shiny willow, strapleaf willow, narrowleaf cottonwood, and thin-leafed alder in the project area that are three feet or greater in height.

The Agreement will provide protection to the Applicant against further regulation under the Endangered Species Act in the event that any of the covered species should be taken on his land as a result of implementation of the proposed conservation measures.

The Service will evaluate the permit application, associated documents, and comments submitted to determine whether the permit application meets the issuance criteria of 50 CFR 17. If, upon completion of the 30-day comment period, the Service determines that the criteria are met, the Service will sign the Agreement and issue an enhancement of survival permit under section 10 (a)(1)(A) of the Act to James W. Crosswhite for take of southwestern willow flycatcher and Little Colorado spinedace incidental to otherwise lawful activities in accordance with the terms of the Agreement.

Section 9 of the Act prohibits the “taking” of threatened or endangered species. However, the Service, under limited circumstances, may issue permits to take threatened and endangered wildlife species incidental to, and not the purpose of, otherwise lawful activities. Regulations governing permits for endangered species are at 50 CFR 17.22 and 50 CFR 17.32 for threatened species.

This notice is provided pursuant to section 10(c) of the Act and National Environmental Policy Act regulations (40 CFR 1506.6).

Bryan Arroyo,
Acting Regional Director, Southwest Region, Albuquerque, New Mexico.

[FR Doc. 03-23244 Filed 9-11-03; 8:45 am]

BILLING CODE 4510-55-P